FEDERAL TRADE COMMISSION

Granting of Request for Early Termination of the Waiting Period Under the Premerger Notification rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and require that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
TRANSACTIONS GRANTED EARLY TERMINATION—06/20/2005
20051097 | Jolly Roger Offshore Fund Ltd | Walters Industries Inc. | Walters Industries, Inc.
20051131 | Municipal Mortgage & Equity, LLC | Kevin P. Filter | Glaser Financial Group, Inc.
20051133 | Municipal Mortgage & Equity, LLC | David A. Williams | Glaser Financial Group, Inc.
20051138 | Rocca & Partners, S.A. | Alfa S.A. de C.V. | Hylsamex S.A. de C.V.
20051142 | CIT Group Inc. | U.S. Bancorp | Joseph Leasing LTD.
20051143 | Dr. Ernst Volgenau | Dr. James Yoh and Dr. H. Julie Yoh | Galaxy Scientific Corporation.
20051146 | General Atlantic Partner 79, L.P | Vedior NV | TriNet Group, Inc.
20051155 | ValueClick, Inc. | Web Marketing Holdings, Inc | Web Marketing Holdings, Inc.
TRANSACTIONS GRANTED EARLY TERMINATION—06/21/2005
20051147 | Snyder Associated Companies, Inc | Superior Well Services, Ltd | Superior Well Services, Ltd.
20051150 | k1 Ventures Ltd. | Helm Holding Corporation | Helm Holding Corporation.
TRANSACTIONS GRANTED EARLY TERMINATION—06/22/2005
20051103 | Unifinter Pensioen B.V. | Royal Dutch Petroleum Company | InterGen N.V.
20051140 | Arkansas Electric Cooperative Corporation | Mirant Corporation | Wrightsville Development Funding, LLC.
|  |  | Wrightsville Power Facility, LLC.
20051144 | Triarc Companies, Inc. | RTM Restaurant Group, Inc | RTM Restaurant Group, Inc.
20051145 | Triarc Companies, Inc. | RTM Management Company, L.L.C | RTM Management Company, L.L.C.
TRANSACTIONS GRANTED EARLY TERMINATION—06/23/2005
20050728 | BAE Systems plc | United Defense Industries, Inc | United Defense Industries, Inc.
20051151 | Russell V. Umphenour, Jr | Triarc Companies, Inc. | Triac Companies, Inc.
TRANSACTIONS GRANTED EARLY TERMINATION—06/24/2005
20051054 | Yell Group PLC | TransWestern Holdings, L.P | TransWestern Holdings, L.P.
20051092 | TEPPCO Partners, L.P. | Texas Genco LLC | TG Pipeline, L.P.
20051094 | KRG Capital Fund II, L.P | Jeffrey Clark | SuperFloors, Inc.
|  |  | SuperFloors of Arizona, Inc.
20051105 | Cinergy Corp. | Allegheny Energy, Inc. | Allegheny Energy Supply Company, LLC.
|  |  | Allegheny Energy Supply Wheatland Generating Facility, LLC.
|  |  | Lake Acquisition Company, L.L.C.
20051112 | Wolseley plc | Kenneth D. Black | General Building Systems, Inc.
|  |  | Johnson-Manley-Black Limited Liability Company.
|  |  | KB Framers, LLC.
|  |  | K&K Door & Trim, LLC.
20051156 | Wachovia Corporation | George J. Budig | George E. Fern Co.
20051157 | Wachovia Corporation | Otto M. Budig, Jr. | George E. Fern Co.
20051159 | Schwarz Pharma AG | Aderis Pharmaceuticals, Inc | Aderis Pharmaceuticals, Inc.
20051173 | Macquarie Infrastructure Company Trust | Gene H. Yamagata | Eagle Aviation Resources, Ltd.
20051179 | American Capital Strategies, Ltd | Barclays PLC | Fosbel Holdings Ltd.
20051180 | J.P. Morgan Chase & Co | VS&A Communications Partners III, L.P | Hanley-Wood, LLC.
20051182 | Quest Software, Inc. | Ray Noorda and Tye Noorda | Vintela, Inc.
20051183 | The Stride Rite Corporation | Saucony, Inc. | Saucony, Inc.
20051188 | Citrix Systems, Inc. | NetScaler, Inc. | NetScaler, Inc.
20051189 | Nautilus, Inc. | DashAmerica, Inc. | DashAmercia, Inc.
20051191 | RHJ International S.A. | Boston Acoustics, Inc. | Boston Acoustics, Inc.
TRANSACTIONS GRANTED EARLY TERMINATION—06/27/2005
20051058 | Meredith Corporation | Mr. Reinhard Mohn | Gruner + Jahr USA Group, Inc.
20051065 | ACE Aviation Holdings, Inc | US Airways Group, Inc. | US Airways Group, Inc.
20051067 | PAR Investment Partners, L.P | US Airways Group, Inc. | US Airways Group, Inc.
20051149 | Sun Healthcare Group, Inc | Peak Medical Corporation | Peak Medical Corporation.
20051161 | MVC Capital Inc. | General Electric Company | Datax-Ohmeda, Inc.
TRANSACTIONS GRANTED EARLY TERMINATION—06/28/2005
20050956 | Siemens Aktiengesellschaft | High Voltage Engineering Corporation | Robicon Corporation.
20051127 | Actavis Group hf. | Sumitira Patel | Amide Holdings, Inc.
20051128 | J.P. Morgan Chase & Co | Nualt Enterprises Inc. | Aluma Systems USA Inc.
20051134 | Medtronic, Inc. | Transneuronix, Inc. | Transneuronix, Inc.
20051136 | Pfizer Inc. | Renovis, Inc. | Renovis, Inc.
TRANSACTIONS GRANTED EARLY TERMINATION—06/29/2005
20051178 | J. W. Childs Equity Partners III, L.P | Harry M. Grunstein | Cornerstone Health Management Company.
|  |  | Summit Hospital of Southeast Arizona, Inc.
|  |  | Summit Hospital of Southwest Louisiana, Inc.
|  |  | Summit Institute for Pulmonary Medicine and Rehabilitation.
|  |  | Summit Institute of Austin, Inc.
|  |  | Summit Medical Holdings, Ltd.
|  |  | Summit Medical Management, Inc.
TRANSACTIONS GRANTED EARLY TERMINATION—06/30/2005
20050929 | Fortune Brands, Inc. | Allied Domecq PLC | Allied Domecq PLC.
|  |  | Allied Domecq Spirits and Wine Holdings PLC.
|  |  | Allied Domecq Wines.
|  |  | Courvoisier S.A.S.
|  |  | Harveys of Bristol Ltd.
|  |  | Hiram Walker & Sons Limited.
|  |  | Teacher Distillers Overseas Ltd.
|  |  | Wine Alliance, Inc.
20050930 | Pernod Ricard S.A. | Allied Domecq PLC | Allied Domecq PLC.
TRANSACTIONS GRANTED EARLY TERMINATION—07/01/2005
20051110 | Deutsche Lufthansa AG | Swiss International Airlines, Ltd | Swiss International Airlines, Ltd.
20051186 | Stonebridge Partners Equity Fund III, L.P | Dorbyl Limited | Alpine Holdings Inc.
|  |  | Dorbyl U.K. (Holdings) Limited.
20051199 | Fisher Scientific International Inc | McKesson Corporation | McKesson BioServices Corporation.
20051204 | GlaxoSmithKline plc | Vitae Pharmaceuticals, Inc | Vitae Pharmaceuticals, Inc.
20051206 | Clarity Partners, LP | Brent Naylor | Naylor Publications, Inc.
20051207 | 2003 Riverside Capital Appreciation Fund, L.P | Massachusetts Mutual Life Insurance Company | VeriText LLC.
20051212 | Linsalata Capital Partners Fund V, L.P | Monte and Usha Ahuja | Transtar Autobody Technologies, Inc.
|  |  | Transtar Industries, Inc.
20051213 | Welsh, Carson, Anderson & Stowe X, L.P | DLJ Real Estate Capital Partners II, L.P | Ozburn-Hessey Holding Company, LLC.
20051214 | TPV Technology Limited | Beijing Orient Top Victory Electronics Co. Ltd | Beijing Orient Top Victory Electronic Co. Ltd.
20051215 | HSBC Holdings plc | Tim Grumbacher | The Bon-Ton Stores, Inc.
20051219 | Bain Capital Fund VIII, L.P | School Speciality, Inc. | School Speciality, Inc.
TRANSACTIONS GRANTED EARLY TERMINATION—07/05/2005
20051167 | HSBC Holdings plc | The Neiman Marcus Group, Inc | Bergdorf Goodman, Inc.
|  |  | Neiman Marcus Funding Corporation.
TRANSACTIONS GRANTED EARLY TERMINATION—07/06/2005
20051101 | GSCP Athena (LUX) S.a.R.L | Pirelli & C. S.p.A. | Pirelli Cavi e Sistemi Telecom S.p.A.
|  |  | Pirelli Cavi e Sistemi Energia S.p.A.
20051187 | NBTY, Inc. | Wyeth | Solgar Vitamin & Herb.
20051198 | DLJ Merchant Banking Partners III, L.P | Wastequip, Inc. | Wastequip, Inc.
20051211 | Palladium Equity Partners III, L.P | JP Acquisition Fund III, L.P | TB Corp.
20051221 | Cephalon, Inc. | Cell Therapeutics, Inc. | CTI Technologies, Inc.
|  |  | PolaRx Biopharmaceuticals, Inc.
20051222 | Young's Holdings, Inc. | Pernod Ricard S.A. | Pernod Ricard USA LLC.
20051223 | ABRY Partners V, L.P. | Providence Equity Partners IV L.P | F&W Acquisition, Inc.
TRANSACTIONS GRANTED EARLY TERMINATION—07/07/2005
20051093 | Amedisys, Inc. | Allied Capital Corporation | HMR Acquisition, Inc.
|  |  | Housecall Medical Resources, Inc.
TRANSACTIONS GRANTED EARLY TERMINATION—07/08/2005
20051176 | Daiichi Pharmaceutical Co., Ltd | Sankyo Company, Limited | Sankyo Company, Limited.
20051177 | Sankyo Company, Limited | Daiichi Pharmaceutical Co., Ltd | Daiichi Pharmaceutical Co., Ltd.

For Further Information Contact: Sandra N. Peay, Contact Representative or Renee Hallman, Case Management Assistant: Federal Trade Commission, Premerger Notification Office, Bureau of Competition, Room H-303, Washington, DC 20580; (202) 326-3100.

By Direction of the Commission.
Donald S. Clark,
Secretary.

[FR Doc. 05-14547 Filed 7-22-05; 8:45 am]

BILLING CODE 6750-01-M